DEPARTMENT OF AGRICULTURE

Animal and Plant Health Inspection Service

9 CFR Part 151

Recognition of Breeds and Books of Record of Purebred Animals

CFR Correction

In Title 9 of the Code of Federal Regulations, Parts 1 to 199, revised as of January 1, 2009, on page 961, in § 151.1, remove the paragraph designation from the definition of “The Act” and place the definition in alphabetical order; and on page 970, remove the sectional authority citation at the end of § 151.9.

[FR Doc. E9-30036 Filed 12-15-09; 8:45 am]

BILLING CODE 1505-01-D